DEPARTMENT OF COMMERCE

National Oceanic and Atmospheric Administration

[Docket No. 151014950-5950-01]

RIN 0648-XE260

Notice of Availability of a Draft NOAA/NESDIS Commercial Space Activities Assessment Process

AGENCY: National Oceanic and Atmospheric Administration (NOAA), Commerce.

ACTION: Notice of availability of a Draft NOAA/NESDIS Commercial Space Activities Assessment Process; request for comments.

SUMMARY: On January 8, 2016, NOAA released the NOAA Commercial Space Policy. Consistent with that policy, the Draft National Environmental Satellite, Data, and Information Service (NESDIS) Commercial Space Activities Assessment Process identifies the NESDIS process for engagement with the commercial sector by which NESDIS will assess and pursue commercial opportunities to support NOAA's space-based observational information requirements. In order to ensure consideration of a broad range of ideas for optimal methods of engaging with the commercial sector, NESDIS seeks comments on the Draft NESDIS Commercial Space Activities Assessment Process. Through http://www.regulations.gov/#!docketDetail;D=NOAA-NESDIS-2015-0132, the public can view the Draft NESDIS Commercial Space Activities Assessment Process, submit ideas, review submissions from other parties, and make comments.

All comments are welcome. In particular, NOAA would like comments on the following areas:

What contractual or other mechanisms could NOAA use to work with commercial sector data providers beyond traditional acquisition approaches?

What steps should NOAA take to consider the long-term viability of a commercial data provider prior to an operational data purchase?

What are the key aspects of demonstration projects that allow the commercial sector to gain necessary insights?

What are the key aspects of demonstration projects that would allow NOAA to perform the necessary data validation for the continued success of NOAA's public safety mission?

DATES: Comments must be received by 5 p.m. on May 9, 2016.

ADDRESSES: You may submit comments on this document, identified by NOAA-NESDIS-2015-0132, by either of the following methods:

Electronic Submission: Submit all electronic public comments via the Federal e-Rulemaking Portal. Go to http://www.regulations.gov/#!docketDetail;D=NOAA-NESDIS-2015-0132, click the “Comment Now!” icon, complete the required fields, and enter or attach your comments.

Mail: Submit written comments to: NOAA NESDIS, c/o Ms. Kate Becker, U.S. Department of Commerce, National Oceanic and Atmospheric Administration, National Environmental Satellite, Data, and Information Service, Room 8229, 1335 East West Highway, Silver Spring, MD 20910.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous). Additional information as well as instructions on how to submit comments can be found at the following Web site: http://www.regulations.gov/#!docketDetail;D=NOAA-NESDIS-2015-0132. The Draft NESDIS Commercial Space Activities Assessment Process can also be viewed here.

FOR FURTHER INFORMATION CONTACT: Ms. Kate Becker, NESDIS Office of the Chief of Staff, U.S. Department of Commerce, National Oceanic and Atmospheric Administration, National Environmental Satellite, Data, and Information Service, Room 8229, 1335 East West Highway, Silver Spring, MD 20910. (Phone: 301-713-7049, kate.becker@noaa.gov).

SUPPLEMENTARY INFORMATION: NOAA is a science-based services agency charged with understanding and predicting changes in Earth systems in order to provide critical environmental intelligence to the American public, decision makers, and our partners. NOAA's environmental intelligence depends on observations obtained via a variety of systems, including satellites, ships, ground, and in situ networks.

The NOAA Commercial Space Policy and the NESDIS Commercial Space Activities Assessment Process are two steps of NOAA's multi-step approach to engaging the commercial sector to ensure best use of commercial sector capabilities. NOAA has developed these documents as timeless guidance to provide a foundation for a long-term endeavor. Both documents formally establish core principles that will guide NOAA's engagement with the commercial sector. In January, NOAA released the Commercial Space Policy to establish the broad principles for the use of commercial space-based approaches to meet NOAA's observational requirements. Now, to supplement the principles established in the policy, NESDIS has released the draft NESDIS Commercial Space Activities Assessment Process.

The NESDIS Process lays out the phases of the process that NESDIS will follow leading to any potential commercial data acquisition. First, NESDIS will release one or more Requests for Information (RFIs) to gather a sense of commercial capabilities and convey our interest in a new dataset. Based on assessment of the RFI responses, NESDIS will then release one or more Requests for Proposals (RFPs) to acquire and evaluate commercial data, which will include the data specifications we require. Based on RFP responses, NOAA may purchase data from one or more vendors for analysis and evaluation through a demonstration project.

Because specifications are unique to each individual dataset, RFPs are an appropriate vehicle for sharing data specifications rather than through the policy or the process. The RFPs will focus on individual systems and allow for an in-depth, detailed description of requirements.

Following the demonstration project and the pending results, NESDIS may issue one or more RFPs to purchase on-orbit observations from commercial sources for operational use by NOAA.

These steps are formally outlined in the draft NESDIS Commercial Space Activities Assessment Process, which can be found at: http://www.regulations.gov/#!docketDetail;D=NOAA-NESDIS-2015-0132.

Both the NOAA Commercial Space Policy and the NESDIS Commercial Space Activities Assessment Process firmly establish the principles that will guide NOAA's engagement with the commercial sector and the practices for how NOAA will assess, pursue, and determine the viability of using commercial data. We are actively implementing the activities identified in the two documents toward this end. In the near future, we plan to share more specific information on individual datasets and steps involved in our process. NOAA will use multiple platforms to share important information, including RFIs, RFPs, the Office of Space Commerce Web site, and ongoing engagement events to promote dialogue and transparency.

Dated: April 1, 2016.
Stephen M. Volz,
Assistant Administrator for Satellite and Information Services.

[FR Doc. 2016-08063 Filed 4-7-16; 8:45 am]

BILLING CODE 3510-HR-P